DEPARTMENT OF AGRICULTURE

Forest Service

Information Collection; Advertised Timber for Sale

AGENCY: Forest Service, USDA.

ACTION: Notice; request for comment.

SUMMARY: In accordance with the Paperwork Reduction Act of 1995, the Forest Service is seeking comments from all interested individuals and organizations on the revision with changes of the currently approved information collection 0596-0066, Advertised Timber for Sale.

DATES: Comments must be received in writing on or before October 26, 2020 to be assured of consideration. Comments received after that date will be considered to the extent practicable.

ADDRESSES: Comments concerning this notice should be addressed to Director, Forest Management, 1400 Independence Avenue SW, Mail Stop 1103, Washington DC 20250-0003.

Comments also may be submitted via facsimile to (202) 205-1045 or by email to: SM.FS.bidform_comment@usda.gov.

All comments, including names and addresses when provided, are placed in the record and are available for public inspection and copying. The public may view comments received on the World Wide Web/internet site at: http://www.fs.fed.us/forestmanagement.

FOR FURTHER INFORMATION CONTACT: Carl Maass, Forest Management Staff, at (970) 295-5961, or email, carl.maass@usda.gov. Individuals who use telecommunication devices for the deaf (TDD) may call the Federal Relay Service (FRS) at 1-800-877-8339, 24 hours a day, every day of the year, including holidays.

SUPPLEMENTARY INFORMATION:

Title: Advertised Timber for Sale.

OMB Number: 0596-0066.

Expiration Date of Approval: December 31, 2020.

Type of Request: Extension with Revision.

Abstract: Pursuant to statutory requirements at 16 U.S.C. 472a, unless extraordinary conditions exist as defined by regulation, the Secretary of Agriculture must: (1) Advertise sales of all National Forest System timber or forest products exceeding $10,000 in appraised value; (2) select bidding methods that ensure open and fair competition; (3) select bidding methods that ensure that the Federal Government receives not less than appraised value of the timber or forest product; and (4) monitor bidding patterns for evidence of unlawful bidding practices.

Pursuant to the Forest Service Small Business Timber Sale Set-Aside Program, developed in cooperation with the Small Business Administration, Forest Service regulations at Title 36 of the Code of Federal Regulations, § 223.84 require that the Forest Service bid form used by potential timber sale bidders include provisions for small business concerns. The data collected will be used by the agency to ensure that National Forest System timber will be sold at not less than appraised value, that bidders will meet specific criteria when submitting a bid, and that anti-trust violations will not occur during the bidding process.

The tax identification number of each bidder is entered into an automated bid monitoring system, which is used to determine if speculative bidding or unlawful bidding practices are occurring and is required to process electronic payments to the purchaser.

Respondents will be bidders on National Forest System timber sales. Forest Service sale officers will mail bid forms to potential bidders, and bidders will return the completed forms, dated and signed, to the Forest Service sale officer.

The data gathered in this information collection are not available from other sources.

Forms Associated With This Information Collection

FS-2400-42a—National Forest Timber and Forest Products for Sale (Advertisement and Short-Form Bid): This form will be used for soliciting and receiving bids on short-notice timber sales advertised for less than 30 days for less than $10,000 in advertised value. Respondents are bidders on National Forest System timber sales.

FS-2400-14—Bid for Advertised Timber (3 form versions: FS-2400-14UR—Unit Rate Bidding; FS-2400-14WA—Weighted Average Bidding; FS-2400-14TV—Total Value Bidding): These forms implement the same statutes, policies, and regulations and collect similar information from the same applicants. Respondents are bidders on National Forest System timber and forest product sales.

FS-2400-14BV—Bid For Integrated Resource Timber Contract (2 form versions: FS-2400-14BV—Best Value, Total Value Bidding; FS-2400-14BVU—Best Value, Unit Rate Bidding): These forms will be used for soliciting and receiving bids on contracts advertised for 30 days or longer and on contracts greater than $10,000 in advertised value.

Forms showing changes to the October 2018 versions currently in use can be viewed on the World Wide Web/internet site at: http://www.fs.fed.us/forestmanagement.

Item | FS-2400-42a | FS 2400-14 | FS-2400-14BV
Estimate of Annual Burden per Respondent | 3.0 hours | 14.4 hours | 34.4 hours.
Type of Respondents | Individuals, large and small businesses, and corporations bidding on National Forest timber sales and Integrated Resource Timber Contracts.
Estimated Annual Number of Respondents | 316 | 1,712 | 244.
Average Estimated Number of Responses per Respondent | 1.8 | 3.9 | 1.2.
Estimated Total Annual Burden on Respondents | 1,706 hours | 96,146 hours | 10,072 hours.

Comment Is Invited

Comment is invited on: (1) Whether the proposed collection of information is necessary for the stated purposes or the proper performance of the functions of the agency, including whether the information shall have practical or scientific utility; (2) the accuracy of the agency's estimate of the burden of the proposed collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including name and address when provided, will be summarized and included in the request for Office of Management and Budget approval. All comments also will become a matter of public record.

Allen Rowley,
Associate Deputy Chief, National Forest System.

[FR Doc. 2020-18835 Filed 8-26-20; 8:45 am]

BILLING CODE 3411-15-P